DEPARTMENT OF VETERANS AFFAIRS

Veterans' Advisory Committee on Education; Notice of Meeting

The Department of Veterans Affairs gives notice under Public Law 92-463 (Federal Advisory Committee Act) that the Veterans' Advisory Committee on Education will meet on April 6-7, 2006. The April 6 session will be held at the South Mesa Staff NCO Club, Camp Pendleton, CA from 9 a.m. to 12:30 p.m. and will resume at the Oceanside Marina Suites, 2008 Harbor Drive North, Oceanside, CA, from 1:30 p.m. to 5 p.m. The April 7 session will be held at the Oceanside Marina Suites, from 8 a.m. to 3 p.m. The meeting is open to the public.

The purpose of the Committee is to advise the Secretary of Veterans Affairs on the administration of education and training programs for veterans, servicepersons, reservists, and dependents of veterans under Chapters 30, 32, 35, and 36 of Title 38, and Chapter 1606 of Title 10, United States Code.

On April 6, the meeting will begin with opening remarks and an overview by Mr. James Bombard, Committee Chair. The session will include an introduction of new members and a “town hall” forum at 10 a.m. with Marine Corps and Navy personnel to discuss use of Department of Veterans Affairs education benefits.

On April 7, the Committee will hold a town hall forum with veterans and educators to discuss use of education benefits. Afterwards, the Committee will review and summarize issues raised during this session. Oral statements will be heard on April 7 at 8:30 a.m.

Interested persons may file written statements to the Committee before the meeting, or within 10 days after the meeting, with Mrs. Judith B. Timko, Designated Federal Officer, Department of Veterans Affairs, Veterans Benefits Administration (225B), 810 Vermont Avenue, NW., Washington, DC 20420. Any member of the public wishing to attend the meeting should contact Mrs. Judith B. Timko or Mr. Michael Yunker at (202) 273-7187.

Dated: March 10, 2006.
By Direction of the Secretary.
E. Philip Riggin,
Committee Management Officer.

[FR Doc. 06-2530 Filed 3-15-06; 8:45 am]

BILLING CODE 8320-01-M